DEPARTMENT OF COMMERCE

International Trade Administration

[A-428-801]

Antifriction Bearings (Other Than Tapered Roller Bearings) and Parts Thereof From France, Germany, Italy, Japan, Singapore, Sweden, Thailand, and the United Kingdom; Amended Final Results of Antidumping Duty Administrative Reviews

AGENCY: Import Administration, International Trade Administration, Department of Commerce.

ACTION: Notice of amended final results of antidumping duty administrative reviews.

SUMMARY: On November 15, 2000, the Department of Commerce published the amended final results of administrative reviews of the antidumping duty orders on antifriction bearings (other than tapered roller bearings) and parts thereof from France, Germany, Italy, Japan, Singapore, Sweden, Thailand, and the United Kingdom (see 65 FR 68974). The classes or kinds of merchandise covered by these reviews are ball bearings and parts thereof, cylindrical roller bearings and parts thereof, and spherical plain bearings and parts thereof. The period of review is May 1, 1993, through April 30, 1994. Subsequent to publication of these results, we found that one matter, relating to the reviews of the orders on antifriction bearings and parts thereof from Germany, remains pending before the United States Court of Appeals for the Federal Circuit and that, consequently, the amended results do not reflect the final results of review for the respondent-company FAG Kugelfischer Georg Schaefer AG.

EFFECTIVE DATE: December 19, 2000.

FOR FURTHER INFORMATION CONTACT: Edythe Artman or Richard Rimlinger, Import Administration, International Trade Administration, U.S. Department of Commerce, 14th Street and Constitution Avenue, NW., Washington, DC 20230; telephone (202) 482-4733.

Applicable Statute

Unless otherwise indicated, all citations to the Tariff Act of 1930, as amended (the Tariff Act), are references to the provisions in effect as of December 31, 1994. In addition, unless otherwise indicated, all citations to the Department of Commerce's (the Department's) regulations are to the regulations as codified at 19 CFR part 353 (1995).

SUPPLEMENTARY INFORMATION:

Background

On November 15, 2000, the Department of Commerce published the amended final results of administrative reviews of the antidumping duty orders on antifriction bearings (other than tapered roller bearings) and parts thereof from France, Germany, Italy, Japan, Singapore, Sweden, Thailand, and the United Kingdom. The classes or kinds of merchandise covered by these reviews are ball bearings and parts thereof, cylindrical roller bearings and parts thereof, and spherical plain bearings and parts thereof. The period of review is May 1, 1993, through April 30, 1994.

In our notice of amended final results, we stated that all litigation pertaining to the results of the reviews was final and conclusive. This statement was erroneous; one matter relating to the administrative reviews of the orders on antifriction bearings and parts thereof from Germany remains pending before the United States Court of Appeals for the Federal Circuit (CAFC). This matter concerns the final results of review for one respondent, FAG Kugelfischer Georg Schaefer AG (FAG Germany). Hence, the results for FAG Germany that we published in our notice of amended final results do not reflect the final results for this company. We will not instruct the U.S. Customs service to liquidate entries for this company until all final and conclusive action has been taken on the pending matter and after we have published amended final results of review for this respondent.

Amendment to Final Results

The amended final results of the administrative review of the antidumping duty order on antifriction bearings (other than tapered roller bearings) and parts thereof from Germany that we published in a notice of amended final results of review on November 15, 2000, do not reflect the final results for the respondent-company FAG Germany.

This notice is published pursuant to section 751(a) of the Tariff Act.

Dated: December 11, 2000.
Troy H. Cribb,
Assistant Secretary for Import Administration.

[FR Doc. 00-32170 Filed 12-18-00; 8:45 am]

BILLING CODE 3510-DS-P